DEPARTMENT OF COMMERCE

International Trade Administration

[A-552-802]

Certain Frozen Warmwater Shrimp from the Socialist Republic of Vietnam: Final Results and Partial Rescission of Antidumping Duty Administrative Review

AGENCY: Import Administration, International Trade Administration, Department of Commerce.

SUMMARY: On July 9, 2009, the Department of Commerce (the “Department”) published in the Federal Register the preliminary results of the fourth administrative review of the antidumping duty order on certain frozen warmwater shrimp from the Socialist Republic of Vietnam (“Vietnam”).¹ We gave interested parties an opportunity to comment on the Preliminary Results. Based upon our analysis of the comments and information received, we made changes to the margin calculations for the final results. We continue to find that certain exporters have sold subject merchandise at less than normal value during the period of review (“POR”), February 1, 2008, through January 31, 2009.

¹ See Certain Frozen Warmwater Shrimp from the Socialist Republic of Vietnam: Preliminary Results, Partial Rescission, and Request for Revocation, in Part, of the Fourth Administrative Review, 75 FR 12206 (Mar. 15, 2010) (“Preliminary Results”).

DATES: Effective Date: August 9, 2010.

FOR FURTHER INFORMATION CONTACT: Susan Pulongbarit, or Paul Walker, AD/CVD Operations, Office 9, Import Administration, International Trade Administration, U.S. Department of Commerce, 14th Street and Constitution Avenue, NW., Washington, DC 20230; telephone: (202) 482-4031, or (202) 482-0413.

SUPPLEMENTARY INFORMATION:

Background

On March 26, 2009, the Department initiated an administrative review of 198 producers/exporters of subject merchandise from Vietnam.² Of the 198 companies/groups upon which we initiated an administrative review, 23 companies submitted separate-rate certifications, nine companies submitted separate-rate applications, and two companies stated that they did not export subject merchandise to the United States during the POR. On June 11, 2009, the Department selected Minh Hai Joint-Stock Seafoods Processing Company (“Seaprodex Minh Hai”), Minh Phu Seafood Corporation (and its affiliates Minh Qui Seafood Co., Ltd., and Minh Phat Seafood Co., Ltd.) (collectively the “Minh Phu Group”) and Nha Trang Seaproduct Company (“Nha Trang Seafoods”) for individual examination (hereinafter “mandatory respondents”) because they were the largest exporters, by volume, of subject merchandise during the POR.³

² See Notice of Initiation of Administrative Reviews and Requests for Revocation in Part of the Antidumping Duty Orders on Certain Frozen Warmwater Shrimp From the Socialist Republic of Vietnam and the People's Republic of China, 74 FR 13178 (March 26, 2009) (“Initiation Notice”).

³ See Memorandum to John Andersen, Acting Deputy Assistant Secretary, through James Doyle, Office Director, from Scot T. Fullerton, Program Manager, and Bobby Wong, Senior International Trade Analyst, regarding Selection of Respondents for the 2008-2009 Antidumping Duty Administrative Review of Frozen Warmwater Shrimp from the Socialist Republic of Vietnam, dated June 11, 2009.

On October 27, 2009, the Department extended the deadline for the Preliminary Results until March 1, 2010.⁴ As noted above, on March 15, 2010, the Department published the Preliminary Results of this administrative review.⁵ In the Preliminary Results the Department determined that Amanda Foods (Vietnam) Limited (“Amanda Foods”) would be included in the Vietnam-wide entity for the purposes of this review because the Department received an untimely filing of Amanda Foods' Separate Rate Certification (“SRC”).

⁴ See Certain Frozen Warmwater Shrimp from the Socialist Republic of Vietnam and the People's Republic of China: Extension of Preliminary Results of Antidumping Duty Administrative Reviews, 74 FR 55192 (October 27, 2009).

⁵ See Preliminary Results.

On April 9, 2010, the Department received publicly available information to value factors of production (“FOP”) for the final results from the Ad Hoc Shrimp Trade Action Committee and its members (“Petitioner”), ASPA and LSA (“Processors”). Certain Vietnamese Respondents (i.e., the Minh Phu Group, Nha Trang Seafoods, Camau Frozen Seafood Processing Import and Export Corporation (“Camimex”), and Grobest & I-Mei Industrial (Vietnam) Co., Ltd. (“Grobest”) submitted additional surrogate value information. On April 16, 2010, the Department received rebuttal surrogate values from certain Vietnamese Respondents (i.e., the Minh Phu Group, Nha Trang Seafoods, Camimex, and Grobest).

In response to requests by interested parties, on March 30, 2010, we extended the deadline for parties to submit case briefs and rebuttal briefs until April 21, 2010, and April 26, 2010, respectively. On April 14, 2010, the Department received a case brief from Amanda Foods. On April 21, 2010, the Department received case briefs from Petitioner, Processors, Contessa Premium Foods, Inc. (“Contessa”), Viet Hai Seafood Co., Ltd., a/k/a Vietnam Fish One Co., Ltd. (“Fish One”), and certain Vietnamese Respondents.⁶ On April 26, 2010, the Department received rebuttal briefs from Petitioner, Processors, Contessa, and certain Vietnamese Respondents (i.e., the Minh Phu Group, Nha Trang Seafoods, Camimex, and Grobest).

⁶ “Certain Vietnamese Respondents” for the April 21, 2010, rebuttal case brief includes the following companies: The Minh Phu Group, Nha Trang Seafoods, Camimex, Grobest, Bac Lieu Fisheries Joint Stock Company, C.P. Vietnam Livestock Corporation, Ca Mau Seafood Joint Stock Company, Cafatex Fishery Joint Stock Company, Can Tho Agricultural and Animal Products Import Export Company, Cuu Long Seaproducts Company, Danang Seaproducts Import Export Corporation, Investment Commerce Fisheries corporation, Minh Hai Export Frozen Seafood Processing Joint Stock Company, Cadovimex Seafood Import-Export and Processing Joint Stock Company, Ngoc Sinh Private Enterprise, Nha Trang Fisheries Joint Stock Company, Phuong Nam Co., Ltd., Sao Ta Foods Joint Stock Company, Soc Trang Seafood Joint Stock Company, Thuan Phuoc Seafoods and Trading Corporation, UTXI Aquatic Products Processing Corporation, Vinh Loi Import Export Company, and Viet Foods Co., Ltd.

On June 16, 2010, the Department released data related to the surrogate wage rate to parties and allowed for comment. On June 22, 2010, the Department released additional data related to surrogate wage rate calculation to parties and allowed for comment. On June 25, 2010, the Department received comments on the aforementioned wage rate memorandums from Contessa, et al., Petitioner, Processors, and Vietnamese Respondents. On July 15, 2010, the Department released additional data related to surrogate wage rate calculation to parties and allowed for comment. On July 20, 2010, the Department received comments on the July 15, 2010, wage rate memorandum from Processors, Petitioner, and Vietnamese Respondents.

Analysis of Comments Received

All issues raised in the case and rebuttal briefs by parties to this review are addressed in the “Certain Frozen Warmwater Shrimp from the Socialist Republic of Vietnam: Issues and Decision Memorandum for the Final Results of 2008—2009 Administrative Review,” which is dated concurrently with this notice (“I&D Memo”). A list of the issues which parties raised and to which we respond in the I&D Memo is attached to this notice as an Appendix. The I&D Memo is a public document and is on file in the Central Records Unit (“CRU”), Main Commerce Building, Room 1117, and is accessible on the Department's Web site at http://www.trade.gov/ia. The paper copy and electronic version of the memorandum are identical in content.

Changes Since the Preliminary Results

Based on a review of the record as well as comments received from parties regarding our Preliminary Results, we have made revisions to the Minh Phu Group and Nha Trang Seafoods' margin calculations for the final results. For all changes to the Minh Phu Group and Nha Trang Seafoods' calculations, see I&D Memo and the company specific analysis memoranda. We have updated the name changes accordingly for these final results. Pursuant to a recent decision by the Court of Appeals for the Federal Circuit,⁷ we have calculated a revised hourly wage rate to use in valuing the Minh Phu Group and Nha Trang's reported labor input by averaging earnings and/or wages in countries that are economically comparable to Vietnam and that are significant producers of comparable merchandise.⁸

⁷ See Dorbest Ltd. et al. v. United States, 2009-1257 at 20 (CAFC 2010).

⁸ See I&D Memo at Comment 9.

Scope of the Order

The scope of this order includes certain warmwater shrimp and prawns, whether frozen, wild-caught (ocean harvested) or farm-raised (produced by aquaculture), head-on or head-off, shell-on or peeled, tail-on or tail-off, “Tails” in this context means the tail fan, which includes the telson and the uropods, deveined or not deveined, cooked or raw, or otherwise processed in frozen form.

The frozen warmwater shrimp and prawn products included in the scope of this investigation, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this investigation. In addition, food preparations, which are not “prepared meals,” that contain more than 20 percent by weight of shrimp or prawn are also included in the scope of this investigation.

Excluded from the scope are: (1) Breaded shrimp and prawns (HTS subheading 1605.20.1020); (2) shrimp and prawns generally classified in the Pandalidae family and commonly referred to as coldwater shrimp, in any state of processing; (3) fresh shrimp and prawns whether shell-on or peeled (HTS subheadings 0306.23.0020 and 0306.23.0040); (4) shrimp and prawns in prepared meals (HTS subheading 1605.20.0510); (5) dried shrimp and prawns; (6) canned warmwater shrimp and prawns (HTS subheading 1605.20.1040); (7) certain dusted shrimp; and 8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. Battered shrimp is a shrimp-based product that, when dusted in accordance with the definition of dusting above, is coated with a wet viscous layer containing egg and/or milk, and par-fried.

The products covered by this investigation are currently classified under the following HTS subheadings: 0306.13.0003, 0306.13.0006, 0306.13.0009, 0306.13.0012, 0306.13.0015, 0306.13.0018, 0306.13.0021, 0306.13.0024, 0306.13.0027, 0306.13.0040, 1605.20.1010, and 1605.20.1030. These HTS subheadings are provided for convenience and for customs purposes only and are not dispositive, but rather the written description of the scope of this investigation is dispositive.

Duty Absorption

In the Preliminary Results we determined that antidumping duties have not been absorbed by the Minh Phu Group or Nha Trang Seafoods on U.S. sales made through its affiliated importer. We have not received any information since the issuance of the Preliminary Results that provides a basis for reconsidering whether duties have not been absorbed by the Minh Phu Group through its affiliated importer or by Nha Trang Seafoods through an affiliated importer. Therefore, for the final results, in accordance with section 751(a)(4) of the Act, we continue to find that duties have not been absorbed by the Minh Phu Group or Nha Trang.

Rescission of Administrative Review

In the Preliminary Results we preliminarily rescinded the review with respect to Vinh Hoan Corporation (“Vinh Hoan”) and Binh Anh Seafood (“Binh Anh”), because they stated that they did not export subject merchandise to the United States during the POR. In addition, CBP has not provided any information that contradicts these companies' claims. Moreover, we have not received any information since the issuance of the Preliminary Results that provides a basis for reconsidering rescinding the review with respect to these two companies. Therefore, for the final results, in accordance with section 351.213(d)(3) of the Department's regulations, we have rescinded the review with respect to Vinh Hoan and Binh Anh.

Separate Rates

In our Preliminary Results, we treated the following companies as separate rate companies: Minh Phu Group; Nha Trang Seafoods; Fish One; Phuong Nam Co., Ltd., and Western Seafood Processing and Exporting Factory (collectively “Phuong Nam”); Cam Ranh Seafoods Processing Enterprise PTE (“Camranh Seafoods”); Danang Seaproducts Import Export Corporation (“Seaprodex Danang”); Minh Hai Jostoco; Cuu Long Seaproducts Company (“Cuu Long Seapro”); Cadovimex Seafood Import-Export and Processing Joint Stock Company (“CADOVIMEX-VIETNAM”); Can Tho Import Export Fishery Limited Company (“CAFISH”); Thuan Phuoc Seafoods and Trading Corporation; Viet Foods Co., Ltd.; Coastal Fisheries Development Corporation (“COFIDEC”); Sao Ta Foods Joint Stock Company (“FIMEX VN”); Camau Frozen Seafood Processing Import Export Corporation (“CAMIMEX”); Investment Commerce Fisheries Corporation (“INCOMFISH”); Cafatex Fishery Joint Stock Corporation (“Cafatex Corporation”); Minh Hai Joint-Stock Seafoods Processing Company (“Seaprodex Minh Hai”); Can Tho Agricultural and Animal Product Import Export Company (“CATACO”); Ca Mau Seafood Joint Stock Company (“Seaprimexco Vietnam”); Nha Trang Fisheries Joint Stock Company (“Nha Trang Fisco”); Bac Lieu Fisheries Joint Stock Company (formerly known as Bac Lieu Fisheries Limited Company) (“Bac Lieu”); Grobest, Gallant Ocean (Vietnam) Co., Ltd. (“Gallant Ocean Vietnam”); UTXI Aquatic Products Processing Corporation (“UTXI”); Soc Trang Aquatic Products and General Import Export Company (“STAPIMEX”); C.P. Vietnam Livestock Company Limited (Currently C.P. Vietnam Livestock Corporation) (“C. Vietnam”); Kim Anh Company Limited (“Kim Anh”); Vinh Loi Import Export Company (“VIMEX”); Ngoc Sinh Private Enterprise (“Ngoc Sinh”); and, Phu Cuong Seafood Processing and Import-Export Co., Ltd. as separate rate companies. We have not received any information since the issuance of the Preliminary Results that provides a basis for reconsideration of this treatment. Therefore, the Department continues to find that the above-named companies meet the criteria for a separate rate.

In our Preliminary Results, we determined that the Department received an untimely filing of Amanda Foods' separate rate application (“SRC”).⁹ We have not received any information since the issuance of the Preliminary Results that provides a basis for the reconsideration of this determination. Therefore, the Department continues to find that Amanda Seafoods will remain part of the Vietnam-wide entity for the purposes of this review, as the Department did not conduct a review of its separate rate eligibility.

⁹ See also I&D Memo at Comment 11.

Vietnam-Wide Entity

In the Preliminary Results we treated certain Vietnamese exporters/producers as part of the Vietnam-wide entity because they did not demonstrate that they operate free of government control. No additional information has been placed on the record with respect to these entities after the Preliminary Results. Because we begin with the presumption that all companies within a NME country are subject to government control, and because only the companies listed under the “Final Results of Review” section below have overcome that presumption, we are applying a single antidumping rate, i.e., the Vietnam-wide entity rate, to all other exporters of subject merchandise from Vietnam. Such companies, including Amanda Seafoods, did not demonstrate entitlement to a separate rate.¹⁰ The Vietnam-wide rate applies to all entries of the merchandise under consideration, except for those companies which have received a separate rate.

¹⁰ See, e.g., Synthetic Indigo from the People's Republic of China: Notice of Final Determination of Sales at Less Than Fair Value, 65 FR 25706, 25707 (May 3, 2000).

Revocation

In the Preliminary Results we noted that eighteen companies requested revocation, however, thirteen of those companies withdrew their revocation requests prior to respondent selection. Also, in the Preliminary Results we declined to revoke the order with respect to the five companies (Minh Phu Group, CAMIMEX, Grobest, Fish One and Seaprodex Minh Hai) with outstanding revocation requests. For the final results we have continued to deny these companies revocation requests. For a discussion of this issue, see the I&D Memo at Comment 4.

Final Results of Review

The weighted-average dumping margins for the POR are as follows:

Certain Frozen Warmwater Shrimp from Vietnam
Manufacturer/exporter | Weighted- average margin (percent)
Minh Phu Group:
Minh Phat Seafood Co., Ltd., aka | 2.96
Minh Phat Seafood aka
Minh Phu Seafood Export Import Corporation (and affiliates Minh Qui Seafood Co., Ltd. and Minh Phat Seafood Co., Ltd.) aka
Minh Phu Seafood Corp. aka
Minh Phu Seafood Corporation aka
Minh Qui Seafood aka
Minh Qui Seafood Co., Ltd
Nha Trang Seaproduct Company (“Nha Trang Seafoods”) ¹¹ aka | 5.58
Nha Trang Seafoods aka
Nha Trang Seaproduct Company Nha Trang Seafoods
Bac Lieu Fisheries Company Limited, aka | 4.27
Bac Lieu Fisheries Company Limited (“Bac Lieu”) aka
Bac Lieu Fisheries Joint Stock Company aka
Bac Lieu Fisheries Limited Company aka
Bac Lieu Fisheries Company Limited ¹²
C.P. Vietnam Livestock Company Limited (“C.P. Vietnam”) aka | 4.27
C.P. Vietnam Livestock Company Limited aka
C.P. Vietnam Livestock Corporation (“C.P. Vietnam”)
Cadovimex Seafood Import-Export and Processing Joint Stock Company (“CADOVIMEX-VIETNAM”) aka | 4.27
Cai Doi Vam Seafood Import-Export Company (“Cadovimex”) aka
Cai Doi Vam Seafood aka
Cai Doi Vam Seafood Im-Ex Company (Cadovimex) aka
Cai Doi Vam Seafood Processing Factory aka
Caidoivam Seafood Company (Cadovimex) aka
Caidoivam Seafood Im-Ex Co
Cafatex Fishery Joint Stock Corporation (“Cafatex Corp.”) aka | 4.27
Cantho Animal Fisheries Product Processing Export Enterprise (Cafatex), aka
Cafatex, aka
Cafatex Vietnam, aka
Xi Nghiep Che Bien Thuy Suc San Xuat Kau Cantho, aka
Cas, aka
Cas Branch, aka
Cafatex Saigon, aka
Cafatex Fishery Joint Stock Corporation, aka
Cafatex Corporation, aka
Taydo Seafood Enterprise
Cafatex Corp
Cam Ranh Seafoods Processing Enterprise Company (“Camranh Seafoods”) aka | 4.27
Camranh Seafoods
Camau Frozen Seafood Processing Import Export Corporation (“CAMIMEX”) ¹³ aka | 4.27
Camimex aka
Camau Seafood Factory No. 4 aka
Camau Seafood Factory No. 5 aka
Camau Frozen Seafood Processing Import & Export aka
Camau Frozen Seafood Processing Import Export Corp. (CAMIMEX-FAC 25) aka
Frozen Factory No. 4
Can Tho Agricultural and Animal Products Import Export Company (“CATACO”) aka | 4.27
Can Tho Agricultural Products aka
CATACO aka
Can Tho Agricultural and Animal Products Imex Company
Can Tho Import Export Fishery Limited Company (“CAFISH”) | 4.27
Coastal Fishery Development aka | 4.27
Coastal Fisheries Development Corporation (“Cofidec”) aka
COFIDEC aka
Coastal Fisheries Development Corporation aka
Coastal Fisheries Development Co., aka
Coastal Fisheries Development Corp
Cuulong Seaproducts Company (“Cuu Long Seapro”) aka | 4.27
Cuu Long Seaproducts Limited (“Cuulong Seapro”) aka
Cuulong Seapro aka
Cuulong Seaproducts Company (“Cuulong Seapro”) aka
Cuu Long Seaproducts Company (“Cuu Long Seapro”) aka
Cuu Long Seaproducts Company aka
Cuu Long Seapro aka
Cuulong Seaproducts Company (“Cuu Long Seapro”) aka
Cuu Long Seaproducts Limited (Cuulong Seapro) aka
Cuulong Seapro aka
Cuulong Seaproduct Company
Danang Seaproducts Import Export Corporation (“Seaprodex Danang”) aka | 4.27
Danang Seaproducts Import Export Corporation aka
Danang Seaproduct Import-Export Corporation aka
Danang Seaproducts Import Export aka
Tho Quang Seafood Processing & Export Company aka
Seaprodex Danang aka
Tho Quang Seafood Processing and Export Company aka
Tho Quang, aka
Tho Quang Co.¹⁴
Gallant Ocean (Vietnam) Co., Ltd. (“Gallant Ocean Vietnam”) | 4.27
Grobest & I-Mei Industrial Vietnam, aka | 4.27
Grobest, aka
Grobest & I-Mei Industrial (Vietnam) Co., Ltd.
Investment Commerce Fisheries Corporation (“Incomfish”) aka | 4.27
Incomfish aka
Investment Commerce Fisheries Corp., aka
Incomfish Corp., aka
Incomfish Corporation aka
Investment Commerce Fisheries aka
Investment Commerce Fisheries Corporation
Kim Anh Company Limited (“Kim Anh”) | 4.27
Minh Hai Export Frozen Seafood Processing Joint Stock Company aka | 4.27
Minh Hai Jostoco aka
Minh Hai Export Frozen Seafood Processing Joint-Stock Company (“Minh Hai Jostoco”) aka
Minh Hai Export Frozen Seafood Processing Joint-Stock Company aka
Minh Hai Joint Stock Seafood Processing Joint-Stock Company aka
Minh Hai Export Frozen Seafood Processing Joint-Stock Co., aka
Minh-Hai Export Frozen Seafood Processing Joint-Stock Company
Minh Hai Joint-Stock Seafoods Processing Company (“Seaprodex Minh Hai”) aka | 4.27
Sea Minh Hai aka
Minh Hai Joint-Stock Seafoods Processing Company aka
Seaprodex Minh Hai aka
Seaprodex Min Hai aka
Seaprodex Minh Hai (Minh Hai Joint Stock Seafoods Processing Co.) aka
Seaprodex Minh Hai Factory aka
Seaprodex Minh Hai Factory No. 69 aka
Seaprodex Minh Hai Workshop 1 aka
Seaprodex Minh Hai-Factory No. 78 aka
Workshop I Seaprodex Minh Hai
Minh Hai Sea Products Import Export Company (“Seaprimex Co”), aka | 4.27
Ca Mau Seafood Joint Stock Company (“SEAPRIMEXCO”) aka
Seaprimexco Vietnam, aka
Seaprimexco
Ca Mau Seafood Joint Stock Company (“Seaprimexco”)
Minh Hai Seaproducts Import Export Corporation
Seaprimexco
Minh Hai Seaproducts Co Ltd. (Seaprimexco)
Ngoc Sinh Private Enterprise aka | 4.27
Ngoc Sinh Seafoods aka
Ngoc Sinh Seafoods Processing and Trading Enterprise aka
Ngoc Sinh Fisheries aka
Ngoc Sinh Private Enterprises aka
Ngoc Sinh Seafoods Processing and Trading Enterprises aka
Ngoc Sinh aka
Ngoc Sinh Seafood Processing Company aka
Ngoc Sinh Seafoods (Private Enterprise)
Nha Trang Fisheries Joint Stock Company (“Nha Trang Fisco”) aka | 4.27
Nha Trang Fisheries Joint Stock Company aka
Nhatrang Fisheries Joint Stock Company aka
Nha Trang Fisco aka
Nhatrang Fisco aka
Nha Trang Fisheries Joint Stock Company (“Nha Trang Fisco”) aka
Nha Trang Fisheries, Joint Stock
Phu Cuong Seafood Processing and Import-Export Co., Ltd. | 4.27
Phuong Nam Co., Ltd. (“Phuong Nam”) aka | 4.27
Western Seafood Processing and Exporting Factory (“Western Seafood”)
Sao Ta Foods Joint Stock Company (“Fimex VN”) aka | 4.27
Sao Ta Foods Joint Stock Company aka
Fimex VN aka
Sao Ta Seafood Factory aka
Saota Seafood Factory
Soc Trang Aquatic Products and General Import Export Company (“Stapimex”) aka | 4.27
Soc Trang Seafood Joint Stock Company (“Stapimex”) aka
Soc Trang Aquatic Products and General Import Export Company aka
Stapimex aka
Soc Trang Aquatic Products and General Import Export Company-(Stapimex) aka
Stapimex Soc Trans Aquatic Products and General Import Export Company aka
Stapmex
Thuan Phuoc Seafoods and Trading Corporation aka | 4.27
Frozen Seafoods Factory No. 32 aka
Seafoods and Foodstuff Factory aka
My Son Seafoods Factory
UTXI Aquatic Products Processing Company aka | 4.27
UT XI Aquatic Products Processing Company aka
UT-XI Aquatic Products Processing Company aka
UTXI aka
UTXI Co. Ltd., aka
Khanh Loi Seafood Factory aka
Hoang Phuong Seafood Factory aka
UTXI Aquatic Products Processing Corporation (“UTXICO”)
Viet Foods Co., Ltd. aka | 4.27
Nam Hai Foodstuff and Export Company Ltd
Viet Hai Seafood Co., Ltd. aka | 4.27
Vietnam Fish One Co., Ltd. (“Fish One”)
Vinh Loi Import Export Company (“Vimexco”), aka | 4.27
Vinh Loi Import Export Company (“VIMEX”), aka
VIMEXCO aka
VIMEX aka
Vinh Loi Import/Export Co., aka
Vinhloi Import Export Company aka
Vinh Loi Import-Export Company
Vietnam-Wide Entity Rate 15 16 | 25.76

Assessment

Upon issuance of the final results, the Department will determine, and CBP shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. We will instruct CBP to assess antidumping duties on all appropriate entries covered by this review if any importer-specific assessment rate calculated in the final results of this review is above de minimis.

¹¹ See Vietnamese Respondents case brief at 44 for proprietary name used by importer.

¹² See Vietnamese Respondents case brief at 24 for proprietary name used by importer.

¹³ See Vietnamese Respondents' case brief at 44 for proprietary names used by importers.

¹⁴ See Vietnamese Respondents' case brief at 29 for proprietary names used by importers.

¹⁵ See Appendix II for a list of these companies.

¹⁶ The Vietnam-wide entity includes Amanda Foods.

Cash Deposit Requirements

The following cash deposit requirements will be effective upon publication of these final results of this administrative review for all shipments of the subject merchandise entered, or withdrawn from warehouse, for consumption on or after the publication date, as provided for by section 751(a)(2)(C) of the Act: (1) For the exporters listed above, the cash deposit rate will be the rate established in these final results of review (except, if the rate is zero or de minimis, i.e., less than 0.5 percent, a zero cash deposit rate will be required for that company); (2) for previously investigated or reviewed Vietnamese and non-Vietnamese exporters not listed above that have separate rates, the cash deposit rate will continue to be the exporter-specific rate published for the most recent period; (3) for all Vietnamese exporters of subject merchandise which have not been found to be entitled to a separate rate, the cash deposit rate will be the Vietnam-wide entity rate of 25.76 percent; and (4) for all non-Vietnam exporters of subject merchandise which have not received their own rate, the cash deposit rate will be the rate applicable to the Vietnamese exporters that supplied that non-Vietnamese exporter. These deposit requirements, when imposed, shall remain in effect until publication of the final results of the next administrative review.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: July 3, 2010.
Ronald K. Lorentzen,
Deputy Assistant Secretary for Import Administration.

Appendix I—Decision Memorandum

I. Issues:

Comment 1: Shrimp Surrogate Value (“SV”)

Comment 2: Surrogate Country

Comment 3: Surrogate Financial Ratios

A. Gemini's Loading/Unloading Expenses

B. Gemini's Sales Commissions

C. Use of the Apex Financial Statements

D. Use of the Beach, Gulf & Fine Foods Financial Statements

Comment 4: Revocation

Comment 5: Respondent Selection

Comment 6: Exclusion of Imports from Bangladesh in SV Calculations

Comment 7: Name Corrections for Certain Companies

Comment 8: Separate Rate Companies

A. Margins for Separate Rate Companies

B. Fish One Margin

Comment 9: SV for Labor

Comment 10: Zeroing

Comment 11: Amanda Foods Separate Rate Certification

Comment 12: Exclusion of Imports from Unspecified Countries in SV Calculations

Comment 13: Assessment Rate Calculation for the Minh Phu Group

Comment 14: Liquidation Instructions

Appendix II

AAAS Logistics

Agrimex

Amerasian Shipping Logistics Corp.; American Container Line

An Giang Fisheries Import and Export Joint Stock Company (Agifish)

An Xuyen

Angiang Agricultural Technology Service

Aquatic Products Trading Company

Bentre Aquaproduct Imports & Exports

Bentre Forestry and Aquaproduct Import-Export Company (“FAQUIMEX”)

Bentre Frozen Aquaproduct Exports; Bentre Seafood Joint Stock and/or Beseaco

Beseaco; Binh Dinh Fishery Joint Stock

Ca Mau Seaproducts Exploitation and Service Corporation (“SES”)

Camau Seafood Fty

Can Tho Seafood Exports

Cantho Imp & Exp Seafood Join, a.k.a. Caseamex; Cautre Enterprises

Cautre Export Goods Processing Joint Stock Company

Chun Cheng Da Nang Co., Ltd.

Co Hieu; Cong Ty D Hop Viet Cuong

D & N Foods Processing Danang

Da Van Manh

Dong Phuc Huynh

Dragon Waves Frozen Food Fty.

Duyen Hai Bac Lieu Company (“T.K. Co.”)

Duyen Hai Foodstuffs Processing Factory (“COSEAFEX”)

Four Season Food

Frozen Fty

Frozen Seafoods Factory No. 32 and/or Frozen Seafoods FTy

Frozen Seafoods Fty

General Imports & Exports

Hacota; Hai Ha Private Enterprise

Hai Thuan Export Seaproduct Processing Co., Ltd.

Hai Viet

Hai Viet Corporation (“HAVICO”)

Hanoi Seaproducts Import Export Corporation (“Seaprodex Hanoi”)

Hatrang Frozen Seaproduct Fty; Hoa Nam Marine Agricultural

Hoan An Fishery

Hoan Vu Marine Product Co., Ltd.

Hua Heong Food Ind Vietnam

Khanh Loi Trading

Kien Gang Sea Products Import-Export Company (“Kisimex”)

Kien Gang Seaproduct Import and Export Company (“KISIMEX”)

Kien Long Seafoods

Konoike Vinatrans Logistics

Lamson Import-Export Foodstuffs Corporation

Long An Food Processing Export Joint Stock Company (“LAFOOCO”)

Lucky Shing

Nam Hai

Nha Trang Company Limited

Nha Trang Fisheries Co., Ltd.

Pataya Food Industry (Vietnam) Ltd.

Phat Loc Seafood

Phung Hung Private Business

Quoc Viet Seaproducts Processing Trading Import and Export Co., Ltd.

Saigon Orchide

Sea Product

Sea Products Imports & Exports

Seafood Company Zone II (“Thusaco2”)

Seafood Processing Joint Stock Company No. 9 (previously Seafood Processing Imports Exports)

Seaprodex and/or Seaprodex Hanoi

Seaprodex Quang Tri; Sonacos

Song Huong ASC Import-Export Company Ltd.

Song Huong ASC Import-Export Company Ltd. and/or Song Huong ASC Joint Stock Company

Song Huong ASC Joint Stock Company

Special Aquatic Products Joint Stock Company (“Seaspimex”)

SSC

T & T Co., Ltd.

Tacvan Frozen Seafoods Processing Export

Thami Shipping & Airfreight

Thang Long

Thanh Doan Seaproducts Import

Thanh Long

Thien Ma Seafood

Tourism Material and Equipment Company (Matourimex Hochiminh City Branch)

Truc An Company

Trung Duc Fisheries Private Enterprise

V N Seafoods; Vien Thang Private Enterprise

Viet Nhan Company

Vietfracht Can Tho

Vietnam Fish-One Co., Ltd.

Vietnam Northern Viking Technologie Co.

Vietnam Northern Viking Technology Co., Ltd.

Vietnam Tomec Co., Ltd.

Vilfood Co.

Western Seafood Processing and Exporting Factory.

[FR Doc. 2010-19577 Filed 8-6-10; 8:45 am]

BILLING CODE 3510-DS-P